DEPARTMENT OF HEALTH AND HUMAN SERVICES

Announcement of Anticipated Availability of Funds for Family Planning Services Grants

AGENCY: Department of Health and Human Services, Office of Public Health and Science, Office of Population Affairs.

ACTION: Notice.

Funding Opportunity Title: Announcement of Anticipated Availability of Funds for Family Planning Services Grants.

Announcement Type: Initial Competitive Grant.

CFDA Number: 93.217.

Authority: Section 1001 of the Public Health Service Act.

DATES: Application due dates vary. To receive consideration, applications must be received by the Office of Public Health and Science (OPHS) Office of Grants Management no later than the applicable due date listed in Table I of this announcement (Section IV. 3, Submission Dates and Times) and within the time frames specified in this announcement for electronically submitted, mailed, and/or hand-delivered hardcopy applications.

Executive Order 12372 comment due date: The State Single Point of Contact (SPOC) has 60 days from the applicable due date as listed in Table I of this announcement to submit any comments.

SUMMARY: The Office of Population Affairs (OPA), Office of Family Planning (OFP), announces the anticipated availability of funds for Fiscal Year (FY) 2006 family planning services grants under the authority of Title X of the Public Health Service Act, and solicits applications for competing grant awards to serve the areas and/or populations listed in Table I. Only applications which propose to serve the populations and/or areas listed in Table I will be accepted for review and possible funding.

I. Funding Opportunity Description

This announcement seeks applications from public and nonprofit private entities to establish and operate voluntary family planning services projects, which shall provide family planning services to all persons desiring such services. Family planning services include clinical family planning and related preventive health services; information, education, and counseling related to family planning, including abstinence education; and, referral services as indicated.

Program Statute and Regulations

Requirements regarding the provision of family planning services under Title X can be found in the statute (Title X of the Public Health Service Act, 42 U.S.C. 300, et seq.), the implementing regulations which govern project grants for family planning services (42 CFR part 59, subpart A), and the “Program Guidelines for Project Grants for Family Planning Services” (January 2001). Title X of the Public Health Service Act authorizes the Secretary of Health and Human Services (HHS) to award grants for projects to provide family planning services to persons from low-income families and others. Section 1001 of the Act, as amended, authorizes grants “to assist in the establishment and operation of voluntary family planning projects which shall offer a broad range of acceptable and effective family planning methods and services (including natural family planning methods, infertility services, and services for adolescents).” Title X regulations further specify that “These projects shall consist of the educational, comprehensive medical, and social services necessary to aid individuals to determine freely the number and spacing of their children” (42 CFR 59.1). In addition, section 1001 of the statute requires that, to the extent practicable, Title X service providers shall encourage family participation in family planning services projects. Section 1008 of the Act, as amended, stipulates that “none of the funds appropriated under this title shall be used in programs where abortion is a method of family planning.”

Copies of the Title X statute, regulations, and Program Guidelines may be obtained by contacting the OPHS Office of Grants Management, or downloaded from the Office of Population Affairs Web site at http://opa.osophs.dhhs.gov. These documents are also included in the application kit. All Title X requirements—including those derived from the statute, the regulations, and the Program Guidelines—apply to all activities funded under this announcement. For example, projects must meet the regulatory requirements set out at 42 CFR 59.5 regarding charges to clients, and the funding criteria set out at 42 CFR 59.7 apply to all applicants under this announcement.

II. Award Information

The anticipated FY 2006 appropriation for the Title X family planning program is approximately $286 million. Of this amount, OPA intends to make available approximately $55 million for competing Title X family planning services grant awards in 19 states, populations, and/or areas. (See Table I, Section IV. 3, Submission Dates and Times, for competing areas and approximate amount of awards). The remaining funds will be used for continued support of grants and activities which are not competitive in FY 2006. This program announcement is subject to the appropriation of funds, and is a contingency action taken to ensure that, should funds become available for this purpose, applications can be processed in an orderly manner, and funds can be awarded in a timely fashion. Grants will be funded in annual increments (budget periods) and are generally approved for a project period of three to five years. Funding for all approved budget periods beyond the first year of the grant is contingent upon the availability of funds, satisfactory progress of the project, and adequate stewardship of Federal funds.

III. Eligibility Information

1. Eligible Applicants

Any public or nonprofit private entity located in a State (which includes one of the 50 United States, the District of Columbia, Commonwealth of Puerto Rico, U.S. Virgin Islands, Commonwealth of the Northern Mariana Islands, American Samoa, Guam, Republic of Palau, Federated States of Micronesia, and the Republic of the Marshall Islands) is eligible to apply for a grant under this announcement. Faith-based organizations are eligible to apply for these Title X family planning services grants.

2. Cost Sharing

Program regulations at state that § 59.7(c) stipulate that “No grant may be made for an amount equal to 100 percent of the project's estimated costs.” Also, 42 CFR 59.7(b) states that “No grant may be made for less than 90 percent of the project's costs, as so estimated, unless the grant is to be made for a project that was supported, under section 1001, for less than 90 percent of its costs in fiscal year 1975. In that case, the grant shall not be for less than the percentage of costs covered by the grant in fiscal year 1975.”

While there is not a fixed cost-sharing percentage or amount, the requested project budget should reflect financial support in addition to Title X funds on both the SF 424A and in the budget justification. The OPHS Office of Grants Management will review applications to ensure that the requested amount of Title X funding is in compliance with this business requirement.

3. Other

Awards will be made only to those organizations or agencies which have met all applicable requirements and which demonstrate the capability of providing the required and proposed services.

IV. Application and Submission Information

1. Address To Request Application Package

Application kits may be requested from, and applications submitted to: OPHS Office of Grants Management, 1101 Wootton Parkway, Suite 550, Rockville, MD 20852; 301-594-0758. Application kits are also available online through the OPHS electronic grants management Web site at https://egrants.osophs.dhhs.gov, and requests may be submitted by FAX at 301-594-9399. Instructions for use of the eGrants system can be found on the OPA Web site at http://opa.osophs.dhhs.gov or requested from the OPHS Office of Grants Management.

2. Content and Form of Application

Applications must be submitted on the Form OPHS-1 (Revised 8/04) and in the manner prescribed in the application kit. Applications should be limited to 60 double-spaced pages, not including required forms, budget pages, budget narrative, and appendices, using an easily readable serif typeface, such as Times Roman, Courier, or GC Times. All pages, charts, figures and tables should be numbered. The application narrative should be numbered separately and should clearly show the 60 page limit. If the application narrative exceeds 60 pages, only the first 60 pages of the application narrative will be reviewed. Appendices may provide progress reports for current grantees who are re-competing, curriculum vitae of key staff, organizational structure, examples of organizational capabilities, or other supplemental information which supports the application. However, appendices are for supportive information only. All information that is critical to the proposed project should be included in the body of the application. Appendices should be clearly labeled.

A Dun and Bradstreet Universal Numbering System (DUNS) number is required for all applications for Federal assistance. Organizations should verify that they have a DUNS number or take the steps needed to obtain one. Instructions for obtaining a DUNS number are included in the application package, and may be downloaded from the OPA Web site.

Applications must include a one-page abstract of the proposed project. The abstract will be used to provide reviewers with an overview of the application, and will form the basis for the application summary in grants management documents.

Application Content

The following priorities represent overarching goals for the Title X program. In developing a proposal, each applicant should describe how the proposed project will address each priority.

Program Priorities

1. Assuring ongoing high quality family planning and related preventive health services that will improve the overall health of individuals;

2. Assuring access to a broad range of acceptable and effective family planning methods and related preventive health services that include natural family planning methods, infertility services, and services for adolescents; highly effective contraceptive methods; breast and cervical cancer screening and prevention that corresponds with nationally recognized standards of care; STD and HIV prevention education, counseling, and testing; extramarital abstinence education and counseling; and other preventive health services. The broad range of services does not include abortion as a method of family planning;

3. Encouraging participation of families, parents, and/or other adults acting in the role of parents in the decision of minors to seek family planning services, including activities that promote positive family relationships;

4. Improving the health of individuals and communities by partnering with community-based organizations (CBOs), faith-based organizations (FBOs), and other public health providers that work with vulnerable or at-risk populations;

5. Promoting individual and community health by emphasizing family planning and related preventive health services for hard-to-reach populations, such as uninsured or under-insured individuals, males, persons with limited English proficiency, adolescents, and other vulnerable or at-risk populations.

Legislative Mandates

The following legislative mandates have been part of the Title X appropriations for each of the last several years. In developing a proposal, the applicant should describe how the proposed project will address each of these legislative mandates.

• “None of the funds appropriated in this Act may be made available to any entity under title X of the Public Health Service Act unless the applicant for the award certifies to the Secretary that it encourages family participation in the decision of minors to seek family planning services and that it provides counseling to minors on how to resist attempts to coerce minors into engaging in sexual activities;” and

• “Notwithstanding any other provision of law, no provider of services under title X of the Public Health Service Act shall be exempt from any State law requiring notification or the reporting of child abuse, child molestation, sexual abuse, rape, or incest.”

Other Key Issues

In addition to the Program Priorities and Legislative Mandates, the following Key Issues have implications for Title X services projects and should be acknowledged in the program plan:

1. The increasing cost of providing family planning services;

2. The U.S. Department of Health and Human Service priorities and initiatives, including increasing access to health care; emphasizing preventive health measures, improving health outcomes; improving the quality of health care; and eliminating disparities in health; as well as Healthy People 2010 objectives for Family Planning (Chapter 9); Health Communication (Chapter 11); HIV (Chapter 13), and Sexually Transmitted Diseases (Chapter 25). (http://www.health.gov/healthypeople);

3. Departmental initiatives and legislative mandates, such as the Health Insurance Portability and Accountability Act (HIPAA); Infant Adoption Awareness Training Program (IAATP); providing unmarried adolescents with information, skills and support to encourage sexual abstinence; serving persons with limited English proficiency;

4. Integration of HIV/AIDS services into family planning programs; specifically, HIV/AIDS education, counseling and testing either on-site or by referral should be provided in all Title X family planning services projects. Education regarding the prevention of HIV/AIDS should incorporate the “ABC” message. That is, for adolescents and unmarried individuals, the message should include “A” for abstinence; for married individuals or those in committed relationships, the message is “B” for be faithful; and, for individuals who engage in behavior that puts them at risk for HIV, the message should include “A,” “B,” and “C” for correct and consistent condom use.

5. Utilization of electronic technologies, such as electronic grants management systems;

6. Data collection and reporting which is responsive to the revised Family Planning Annual Report (FPAR) and other information needs for monitoring and improving family planning services;

7. Service delivery improvement through utilization of research outcomes focusing on family planning and related population issues; and

8. Utilizing practice guidelines and recommendations developed by recognized professional organizations and Federal agencies in the provision of evidence-based Title X clinical services.

Characteristics of a Successful Proposal

Proposed projects must adhere to all requirements of the Title X statute, regulations, and Program Guidelines. Successful proposals will fully describe how the project will address the requirements, and should include the following:

1. A clear description of the need for the services proposed;

2. A description of the geographic area and population to be served;

3. Evidence that the proposed project will address the family planning needs identified;

4. Evidence that the applicant organization has experience in providing clinical health services and the capacity to undertake the clinical family planning and related preventive health services required, including offering a broad range of acceptable and effective family planning methods and services;

5. Evidence that the proposed services are consistent with the requirements of Title X. Use of Title X funds is prohibited in programs where abortion is a method of family planning;

6. A project plan which describes the services to be provided, the location(s) and hours of clinic operations, and projected number of clients to be served;

7. A staffing plan which is reasonable and adheres to the Title X regulatory requirement that family planning medical services will be performed under the direction of a physician with special training or experience in family planning. Staff providing clinical services should be licensed and function within the applicable professional practice acts for the State;

8. Goal statement(s) and related outcome objectives that are specific, measurable, achievable, realistic and time-framed (S.M.A.R.T.);

9. Description of how the applicant will address Title X Program Priorities, Legislative Mandates, and Key Issues.

10. Evidence of formal agreements for referral services (e.g., required clinical services, if not provided by the applicant), and collaborative agreements with other service providers in the community, where appropriate;

11. Evidence of the capability of collecting and reporting the required program data for the Title X annual data collection system (FPAR);

12. Evidence of a system for ensuring quality family planning services, including adherence to program requirements; and

13. A budget and budget justification narrative for year one of the project that is detailed, reasonable, adequate, cost efficient, and that is derived from proposed activities. Budget projections for each of the continuing years should be included.

3. Submission Dates and Times

Competing grant applications are invited for the following areas (please note, in order to maximize access to family planning services, one or more grants may be awarded for each area listed):

Table I
States/populations/areas to be served | Approximate funding available | Application due date | Approx. grant funding date
Region I:
No service areas competitive in FY 2006
Region II:
No service areas competitive in FY 2006
Region III:
Delaware | $1,062,000 | 12/1/05 | 4/1/06
Pittsburgh, PA | 3,743,000 | 3/1/06 | 7/1/06
Wilkes Barre, PA | 1,588,000 | 3/1/06 | 7/1/06
Region IV:
Alabama | 4,768,000 | 3/1/06 | 7/1/06
Florida | 8,638,000 | 3/1/06 | 7/1/06
Mississippi | 5,009,000 | 3/1/06 | 7/1/06
North Carolina | 6,483,000 | 3/1/06 | 7/1/06
Miami, Florida | 544,000 | 6/1/06 | 9/30/06
Region V:
Indiana | 4,812,000 | 10/1/05 | 2/1/06
Minnesota | 190,000 | 5/30/06 | 9/30/06
Ohio | 4,632,000 | 11/1/05 | 3/1/06
Central Ohio | 701,000 | 11/1/05 | 3/1/06
Ohio, Summit, Portage & Medina Cos. | 782,000 | 3/1/06 | 7/1/06
Region VI:
Oklahoma | 3,681,000 | 8/1/05 | 12/1/05
Eastern Oklahoma, including the Choctaw Nation and the Osage Nation | 475,000 | 8/1/05 | 12/1/05
Region VII:
Missouri | 4,876,000 | 12/1/05 | 4/1/06
Region VIII:
No service areas competitive in FY 2006
Region IX:
Nevada, Clark County | 923,000 | 9/1/05 | 1/1/06
California, East/Southeast Los Angeles | 400,000 | 9/1/05 | 1/1/06
Hawaii | 1,665,000 | 3/1/06 | 7/1/06
Federated States of Micronesia | 411,000 | 3/1/06 | 7/1/06
Region X:
No service areas competitive in FY 2006

Submission Mechanisms

The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review and will be returned to the applicant unread. The submission deadline will not be extended. Applications which do not conform to the requirements of the grant announcement will not be accepted for review and will be returned to the applicant. The application due date requiement specified in this announcement supercedes the instructions in the OPHS-1.

Applications may only be submitted electronically via the electronic submission mechanisms specified below. Any applications submitted via any other means of electronic communication, including facsimile or electronic mail, will not be accepted for review. While applications are accepted in hard copy, the use of the electronic application submission capabilities provided by the OPHS eGrants system or the Grants.gov Web site Portal is encouraged.

Electronic Submissions Via the OPHS eGrants System

The OPHS electronic grants management system, eGrants, provides for applications to be submitted electronically. Information about this system is available on the OPHS eGrants Web site, https://egrants.osophs.dhhs.gov, or may be requested from the OPHS Office of Grants Management at 301-594-0758.

The body of the application and required forms can be submitted using the OPHS eGrants system. In addition to electronically submitted materials, applicants are required to submit a hard copy of the application face page (Standard Form 424) with the original signature of an individual authorized to act for the applicant agency or organization and to assume for the organization the obligations imposed by the terms and conditions of the grant award. If required, applicants will also need to submit a hard copy of the Standard Form LLL and/or certain Program related forms with the original signature of an individual authorized to act for the applicant agency or organization. The application will not be considered complete until both the electronic application components submitted via the OPHS eGrants system and any hard copy materials or original signatures are received.

Electronic grant application submissions must be submitted via the OPHS eGrants system no later than 5 p.m. Eastern Time on the deadline date specified in Table I of this announcement. All required hardcopy original signatures and mail-in items must be received by the OPHS Office of Grants Management no later than 5 p.m. Eastern Time on the next business day after the deadline date specified in Table I of this announcement.

Applications will not be considered valid until all electronic application components, hardcopy original signatures, and mail-in items are received by the OPHS Office of Grants Management according to the deadlines specified above. Any application submitted electronically after 5 p.m. Eastern Time on the deadline date specified in Table I of this announcement will be considered late and will be deemed ineligible. Failure of the applicant to submit all required hardcopy original signatures and required mail-in items to the OPHS Office of Grants Management by 5 p.m. Eastern Time on the next business day after the deadline date specified in Table I of this announcement will result in the electronic application being deemed ineligible.

Upon completion of a successful electronic application submission, the OPHS eGrants system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the OPHS eGrants system to ensure that all signatures and mail-in items are received.

Applicants are encouraged to initiate electronic applications early in the application development process, and to submit early on the due date or before. This will aid in addressing any problems with submissions prior to the application deadline.

Electronic Submissions Via the Grants.gov Web site Portal

The Grants.gov Web site Portal provides for applications to be submitted electronically. Information about this system is available on the Grants.gov Web site, http://www.grants.gov.

The body of the application and required forms can be submitted using the Grants.gov Web site Portal. Grants.gov allows the applicant to download and complete the application forms at any time, however, it is required that organizations successfully complete the necessary registration processes in order to submit the application to Grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, excluding the standard forms included in the Grants.gov application package (e.g., Standard Form 424 Face Page, Standard Assurances and Certifications (Standard Form 424B, and Standard Form LLL)) must be submitted separately via mail to the OPHS Office of Grants Management, and, if required, must contain the original signature of an individual authorized to act for the applicant agency or organization and to assume for the organization the obligations imposed by the terms and conditions of the grant award.

Electronic grant application submissions must be submitted via the Grants.gov Web site Portal no later than 5 p.m. Eastern Time on the deadline date specified in Table I of this announcement. All required hardcopy original signatures and mail-in items must be received by the OPHS Office of Grants Management no later than 5 p.m. Eastern Time on the next business day after the deadline date specified in Table I of this announcement.

Applications will not be considered valid until all electronic application components, hardcopy original signatures, and mail-in items are received by the OPHS Office of Grants Management according to the deadlines specified above. Any application submitted electronically via the Grants.gov Web site Portal after 5 p.m. Eastern Time on the deadline date specified in Table I of this announcement will be considered late and will be deemed ineligible. Failure of the applicant to submit all required hardcopy original signatures or materials to the OPHS Office of Grants Management by 5 p.m. Eastern Time on the next business day after the deadline date specified in Table I of this announcement will result in the electronic application being deemed ineligible.

Upon completion of a successful electronic application submission via the Grants.gov Web site Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the OPHS eGrants system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management to be received by the deadlines specified above. It is critical that the applicant clearly identify the Organization name and Grants.gov Application Receipt Number on all hard copy materials.

Once the application is validated by Grants.gov, it will be electronically transferred to the OPHS eGrants system for processing. Upon receipt of both the electronic application from the Grants.gov Web site Portal, and the required hardcopy mail-in items, applicants will receive notification via mail from the OPHS Office of Grants Management confirming the receipt of the application submitted using the Grants.gov Web site Portal.

Applicants are encouraged to initiate electronic applications via the Grants.gov Web site Portal early in the application development process, and to submit early on the due date or before. This will aid in addressing any problems with submissions prior to the application deadline.

Applicants should contact Grants.gov regarding any questions or concerns regarding the electronic application process conducted through the Grants.gov Web site Portal.

Mailed or Hand-Delivered Hard Copy Applications

Applications submitted in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management on or before 5 p.m. Eastern Time on the deadline date specified in Table I of this announcement. The application deadline date requirement specified in this announcement supersedes the instructions in the OPHS-1. Applications that do not meet the deadline will be returned to the applicant unread.

4. Intergovernmental Review

Applicants under this announcement are subject to the requirements of Executive Order 12372, “Intergovernmental Review of Federal Programs,” as implemented by 45 CFR part 100, “Intergovernmental Review of Department of Health and Human Services Programs and Activities.” As soon as possible, the applicant should discuss the project with the State Single Point of Contact (SPOC) for the state in which the applicant is located. The application kit contains the currently available listing of the SPOCs that have elected to be informed of the submission of applications. For those states not represented on the listing, further inquiries should be made by the applicant regarding the submission to the relevant SPOC. The SPOC should forward any comments to the OPHS Office of Grants Management, 1101 Wootton Parkway, Suite 550, Rockville, Maryland 20852. The SPOC has 60 days from the applicable due date listed in Table I of this announcement to submit any comments. For further information, contact the OPHS Office of Grants Management at 301-594-0758.

5. Funding Restrictions

The allowability, allocability, reasonableness and necessity of direct and indirect costs that may be charged to OPHS grants are outlined in the following documents: OMB Circular A-21 (Institutions of Higher Education); OMB Circular A-87 (State and Local Governments); OMB Circular A-122 (Nonprofit Organizations); and 45 CFR part 74, Appendix E (Hospitals). Copies of the Office of Management and Budget (OMB) Circulars are available on the Internet at http://www.whitehouse.gov/omb/grants/grants_circulars.html.

In order to claim indirect costs as part of a budget request, an applicant organization must have an indirect cost rate which has been negotiated with the Federal government. The Health and Human Services Division of Cost Allocation (DCA) Regional Office that is applicable to your State can provide information on how to receive such a rate. A list of DCA Regional Offices is included in the application kit for this announcement.

6. Other Submission Requirements—None

V. Application Review Information

1. Criteria

Eligible applications will be assessed according to the following criteria:

(1) The degree to which the project plan adequately provides for the requirements set forth in the Title X regulations at 42 CFR part 59, subpart A (20 points);

(2) The extent to which family planning services are needed locally (20 points);

(3) The number of patients, and, in particular, the number of low-income patients to be served (15 points);

(4) The adequacy of the applicant's facilities and staff (15 points);

(5) The capacity of the applicant to make rapid and effective use of the Federal assistance (10 points);

(6) The relative availability of non-Federal resources within the community to be served and the degree to which those resources are committed to the project (10 points); and

(7) The relative need of the applicant (10 points).

2. Review and Selection Process

Each regional office is responsible for evaluating applications and setting funding levels according to the criteria set out in 42 CFR 59.7(a). Eligible applications will be reviewed by a panel of independent reviewers and will be evaluated based on the criteria listed above. In addition to the independent review panel, there will be staff reviews of each application for programmatic and grants management compliance.

Final grant award decisions will be made by the Regional Health Administrator (RHA) for the applicable PHS Region. In making grant award decisions, the RHA will fund those projects which will, in his/her judgement, best promote the purposes of section 1001 of the Act, within the limits of funds available for such projects.

VI. Award Administration Information

1. Award Notices

The OPA does not release information about individual applications during the review process. When final funding decisions have been made, each applicant will be notified by letter of the outcome. The official document notifying an applicant that a project application has been approved for funding is the Notice of Grant Award (NGA), signed by the Director of the OPHS Office of Grants Management. This document specifies to the grantee the amount of money awarded, the purposes of the grant, the length of the project period, terms and conditions of the grant award, and the amount of funding, if any, to be contributed by the grantee to project costs. The NGA will also identify the Grants Specialist and Program Project Officer assigned to the grant.

2. Administrative and National Policy Requirements

In accepting the award, the grantee stipulates that the award and any activities thereunder are subject to all provisions of 45 CFR parts 74 and 92, currently in effect or implemented during the period of the grant.

The successful applicant will be responsible for the overall management of activities within the scope of the approved project plan. The OPHS requires all grant recipients to provide a smoke-free workplace and to promote the non-use of all tobacco products. This is consistent with the OPHS mission to protect and advance the physical and mental health of the American people.

A Notice providing information and guidance regarding the “Government-wide Implementation of the President's Welfare-to-Work Initiative for Federal Grant Programs” was published in the Federal Register on May 16, 1997. This initiative was designed to facilitate and encourage grantees and their sub-recipients to hire welfare recipients and to provide additional needed training and/or mentoring as needed. The text of the Notice is available electronically on the OMB home page at http://www.whitehouse.gov/omb.

The HHS Appropriations Act requires that when issuing statements, press releases, requests for proposals, bid solicitations, and other documents describing projects or programs funded in whole or in part with Federal money, grantees shall clearly state the percentage and dollar amount of the total costs of the program or project that will be financed with Federal money and the percentage and dollar amount of the total costs of the project or program that will be financed by non-governmental sources.

3. Reporting

Each grantee is required to submit a Family Planning Annual Report (FPAR) each year.

The information collections (reporting requirements) and format for this report have been approved by the Office of Management and Budget and assigned OMB No. 0990-0221. The FPAR contains a brief organizational profile and 14 tables to report data on users, service use, and revenue for the reporting year. The FPAR instrument and instructions can be found on the OPA Web site at http://opa.osophs.dhhs.gov.

In addition to the FPAR, grantees are required to submit an annual Financial Status Report within 90 days of the end of each budget period. Grantees who receive greater than $500,000 of Federal funds must also undergo an independent audit in accordance with OMB Circular A-133.

Grantees are required to submit a non-competing continuation application, which includes a progress report, each year of the approved project period.

VII. Agency Contacts

Administrative and Budgetary Requirements

For information related to administrative and budgetary requirements, contact the OPHS Office of Grants Management, 1101 Wootton Parkway, Suite 550, Rockville, MD 20852; 301-594-0758.

Program Requirements

For information related to family planning program requirements, contact the Family Planning contact in the applicable Regional Office listed below:

Region I (Connecticut, Maine, Massachusetts, New Hampshire, Rhode Island, Vermont)—Betsy Rosenfeld, 617-565-4265 or Kathy Stratford 617-565-1070;

Region II (New Jersey, New York, Puerto Rico, Virgin Islands)—Robin Lane, 212-264-3935;

Region III (Delaware, Washington, D.C., Maryland, Pennsylvania, Virginia, West Virginia)—Donna Garner, 215-861-4624 or Dickie Lynn Gronseth, 215-861-4656;

Region IV (Kentucky, Mississippi, North Carolina, Tennessee, Alabama, Florida, Georgia, South Carolina)—Cristino Rodriguez, 404-562-7900;

Region V (Illinois, Indiana, Michigan, Minnesota, Ohio, Wisconsin)—Janice Ely, 312-886-3864;

Region VI (Arkansas, Louisiana, New Mexico, Oklahoma, Texas)—Evelyn Glass, 214-767-3088;

Region VII (Iowa, Kansas, Missouri, Nebraska)—Elizabeth Curtis, 816-426-2924;

Region VIII (Colorado, Montana, North Dakota, South Dakota, Utah, Wyoming)—Jill Leslie, 303-844-7856;

Region IX (Arizona, California, Hawaii, Nevada, Commonwealth of the Northern Mariana Islands, American Samoa, Guam, Republic of Palau, Federal States of Micronesia, Republic of the Marshall Islands)—Nancy Mautone-Smith, 415-437-7984; and

Region X (Alaska, Idaho, Oregon, Washington)—Janet Wildeboor, 206-615-2776.

Dated: April 26, 2005.
Alma L. Golden,
Deputy Assistant Secretary for Population Affairs.

[FR Doc. 05-9017 Filed 5-5-05; 8:45 am]

BILLING CODE 4150-34-P